DEPARTMENT OF JUSTICE

Antitrust Division

Notice Pursuant to the National Cooperative Research and Production Act of 1993—J Consortium, Inc.

Notice is hereby given that, on January 19, 2001, pursuant to section 6(a) of the National Cooperative Research and Production Act of 1993, 15 U.S.C. 4301 et seq. (“the Act”), J Consortium, Inc. has filed written notifications simultaneously with the Attorney General and the Federal Trade Commission disclosing changes in its membership status. The notifications were filed for the purpose of extending the Act's provisions limiting the recovery of antitrust plaintiffs to actual damages under specified circumstances. Specifically, Byzance Informatique, Grigny, FRANCE; Mercury Computer Systems, Chelmsford, MA; Object Management Group (OMG), Needham, MA; Syam Ch, Los Angeles, CA; Ken Dixon, Carlsbad, CA; Tom Haley, Tiverton, RI; The Queen's University of Belfast, Belfast, IRELAND, Rita Heinrich, Dresden, GERMANY; William Hopkins, Huldenberg, BELGIUM; Lar Kaufman, Concord, MA; Nilendu Pal, Koramangala, Bangalore, INDIA; Gerhard Pratl, Vienna, AUSTRIA; C. Nagraj Rao, Fremont, CA; K. Raut, Maharashtra, INDIA; Gunukula Srikanth Reddy, Malgonda, INDIA; Bhavin Shah, Guajaret, INDIA; Automobile Electronics, Chengdu Saichuan, PEOPLE'S REPUBLIC OF CHINA; Freightmax House, Durban, SOUTH AFRICA; The Open Group (TOG), Menlo Park, CA; Cesar Mataix, Madrid, SPAIN, Shinkyu Park, Palisade Park, NJ; and Tony Xiao, Chengdu Saichuan, PEOPLE'S REPUBLIC OF CHINA have been added as parties to this venture. Also, the filing published November 20, 2000 is hereby amended to reflect the following correction to one member listed in that filing: Pacific Numerics is corrected to be Grace Pacific Numerics, San Diego, CA.

No other changes have been made in either the membership or planned activity of the group research project. Membership in this group research project remains open, and J Consortium, Inc. intends to file additional written notification disclosing all changes in membership.

On August 9, 1999, J Consortium, Inc. filed its original notification pursuant to section 6(a) of the Act. The Department of Justice published a notice in the Federal Register pursuant to section 6(b) of the Act on March 21, 2000 (65 FR 15175).

The last notification was filed with the Department on October 20, 2000. A notice was published in the Federal Register pursuant to section 6(b) of the Act on November 20, 2000 (65 FR 69789).

Constance K. Robinson,
Director of Operations, Antitrust Division.

[FR Doc. 01-5709 Filed 3-7-01; 8:45 am]

BILLING CODE 4410-11-M